DEPARTMENT OF TRANSPORTATION

Federal Motor Carrier Safety Administration

49 CFR Parts 383 and 384

[FMCSA-2007-27748]

RIN 2126-AB66

Minimum Training Requirements for Entry-Level Commercial Motor Vehicle Operators

AGENCY: Federal Motor Carrier Safety Administration (FMCSA), DOT.

ACTION: Final rule; correction.

SUMMARY: FMCSA is correcting a final rule that appeared in the Federal Register of December 8, 2016 (81 FR 88732), regarding the establishment of new minimum training standards for certain individuals applying for their commercial driver's license (CDL) for the first time; an upgrade of their CDL (e.g., a Class B CDL holder seeking a Class A CDL); or a hazardous materials (H), passenger (P), or school bus (S) endorsement for the first time.

DATES: The effective date of this correction is February 6, 2017.

FOR FURTHER INFORMATION CONTACT: Mr. Richard Clemente, Driver and Carrier Operations (MC-PSD) Division, FMCSA, 1200 New Jersey Ave SE., Washington, DC 20590-0001, by telephone at 202-366-4325, or by email at MCPSD@dot.gov.

SUPPLEMENTARY INFORMATION: The FMCSA makes minor corrections to fix errors in the final rule published on December 8, 2016. In instruction 10, amending § 383.73, the Agency corrects “(b)(10)” to read “(b)(11)” in both the instruction and associated regulatory text. Additionally in § 383.73, FMCSA changes paragraph “(e)(8)” to read “(e)(9)” in both the instruction and associated regulatory text. In instruction 13, amending Part 383, the Agency changes “§ 384.235” to read “§ 384.236.” These changes are required because as written, the instruction and associated regulatory text would have deleted the recent changes published in the Federal Register on December 5, 2016, in the final rule titled “Commercial Driver's License Drug and Alcohol Clearinghouse” (Clearinghouse) (81 FR 87686, RIN 2126-AB18, Docket No. FMCSA-2011-0031). FMCSA makes these corrections in this document to ensure the original language in the Clearinghouse final rule remains in effect.

Therefore, in FR Doc. 2016-28012 appearing on page 88803 in the Federal Register of December 8, 2016, the following corrections are made:

§ 383.73 [Corrected]

1. On page 88803, in the first column, in Part 383, amendatory instruction 10 is corrected to read as follows:

“10. Amend § 383.73 by revising paragraph (b)(3) introductory text and paragraph (b)(3)(ii) and by adding paragraphs (b)(11), (e)(9), and (p) to read as follows:”

The corrected paragraphs (b)(11) and (e)(9) read as follows”

§ 383.73 State procedures.

* * * * *

(b) * * *

(11) Beginning on February 7, 2020, not conduct a skills test of an applicant for a Class A or Class B CDL, or a passenger (P) or school bus (S) endorsement until the State verifies electronically that the applicant completed the training prescribed in subpart F of part 380 of this subchapter.

* * * * *

(e) * * *

(9) Beginning on February 7, 2020, not issue an upgrade to a Class A or Class B CDL, or a passenger (P), school bus (S), or hazardous materials (H) endorsement, unless the applicant has completed the training required by subpart F of part 380 of this subchapter.

§ 384.235 [Corrected]

2. On page 88803, in the third column, in Part 384, amendatory instruction 13 is corrected to read as follows:

“13. Add § 384.236 to subpart B to read as follows:”

The corrected section reads as follows:

§ 384.236 Entry-level driver training provider notification.

The State must meet the entry-level driver training provider notification requirement of § 383.73(p) of this chapter.

Issued under authority delegated in 49 CFR 1.87 on: December 27, 2016.
Larry W. Minor,
Associate Administrator of Policy.

[FR Doc. 2016-31784 Filed 1-9-17; 8:45 am]

BILLING CODE 4910-EX-P